DEPARTMENT OF DEFENSE

Office of the Secretary

[Transmittal No. 24-39]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-39, Policy Justification, and Sensitivity of Technology.

Dated: November 13, 2025.
Aaron T. Siegel,
Alternate OSD Federal Register Liaison Officer, Department of Defense.

Transmittal No. 24-39

Notice of Proposed Issuance of Letter of Offer Pursuant to Section 36(b)(1) of the Arms Export Control Act, as amended

(i) Prospective Purchaser: Government of Israel

(ii) Total Estimated Value:

Major Defense Equipment * | $58.7 million
Other | $ 2.4 million
TOTAL | $61.1 million

Funding Source: Foreign Military Financing

(iii) Description and Quantity or Quantities of Articles or Services under Consideration for Purchase: Foreign Military Sales (FMS) case IS-B-VAT was below the congressional notification threshold at $0.41 million ($0.37 million in MDE) and included four hundred (400) M933A1 120mm High Explosive (HE) mortar cartridges with M783 fuzes; publications; and associated technical documentation. The Government of Israel has requested the case be amended to include an additional fifty thousand (50,000) M933A1 120mm HE mortar cartridges with M783 fuzes. This amendment will cause the case to exceed the notification threshold, and thus notification of the entire case is required.

The above notification requirements are combined as follows:

Major Defense Equipment (MDE):

Fifty thousand four hundred (50,400) M933A1 120mm High Explosive mortar cartridges with M783 fuzes

Non-MDE:

Also included are publications; technical documentation; U.S. Government and contractor engineering, technical, and logistics support services; studies and surveys; and other related elements of logistics and program support.

(iv) Military Department: Army (IS-B-VAT)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 13, 2024

* as defined in Section 47(6) of the Arms Export Control Act.

POLICY JUSTIFICATION

Israel—M933A1 120mm High Explosive Mortar Cartridges

The Government of Israel has requested to buy fifty thousand (50,000) M933A1 120mm High Explosive (HE) mortar cartridges with M783 fuzes that will be added to a previously implemented case whose value was under the congressional notification threshold. The original FMS case, valued at $0.41 million ($0.37 million in MDE), included four hundred (400) M933A1 120mm HE mortar cartridges with M783 fuzes. This notification is for a combined total of fifty thousand four hundred (50,400) M933A1 120mm HE mortar cartridges with M783 fuzes. Also included are publications; technical documentation; U.S. Government and contractor engineering, technical, and logistics support services; studies and surveys; and other related elements of logistics and program support. The estimated total cost is $61.1 million.

The United States is committed to the security of Israel, and it is vital to U.S. national interests to assist Israel to develop and maintain a strong and ready self-defense capability. This proposed sale is consistent with those objectives.

The proposed sale will improve Israel's capability to meet current and future threats by improving the ability of the Israeli Ground Forces to defend its borders, vital infrastructure, and population centers. It will also increase its interoperability with U.S. forces and conveys U.S. commitment to Israel's security and armed forces modernization. Israel will have no difficulty absorbing this equipment into its armed forces.

The proposed sale of this equipment and support will not alter the basic military balance in the region.

The principal contractor will be General Dynamics Ordnance and Tactical Systems Inc., located in Quebec, Canada. There are no known offset agreements proposed in connection with this potential sale.

Implementation of this proposed sale will not require the assignment of any additional U.S. Government or contractor representatives to Israel.

There will be no adverse impact on U.S. defense readiness as a result of this proposed sale.

Transmittal No. 24-39

Notice of Proposed Issuance of Letter of Offer Pursuant to Section 36(b)(1) of the Arms Export Control Act

Annex

Item No. vii

(vii) Sensitivity of Technology:

1. The M933A1 is a standard Army 120mm mortar high explosive projectile, capable of being fired from NATO-standard 120mm mortars in use around the world today. These projectiles have steel bodies which are filled with explosives, typically TNT.

2. The M783 is a standard Army 120mm mortar fuze. Fuzes cause the projectile to detonate at the target and are attached to the projectile by the mortar crew just before loading and firing. The M783 is a multi-function fuze, which can be set to point detonate or delay.

3. The highest level of classification of defense articles, components, and services included in this potential sale is UNCLASSIFIED.

4. If a technologically advanced adversary were to obtain knowledge of the specific hardware and software elements, the information could be used to develop countermeasures that might reduce weapon system effectiveness or be used in the development of a system with similar or advanced capabilities.

5. A determination has been made that Israel can provide substantially the same degree of protection for the sensitive technology being released as the U.S. Government. This sale is necessary in furtherance of the U.S. foreign policy and national security objectives outlined in the Policy Justification.

6. All defense articles and services listed in this transmittal have been authorized for release and export to Israel.

[FR Doc. 2025-20068 Filed 11-17-25; 8:45 am]

BILLING CODE 6001-FR-P